DEPARTMENT OF COMMERCE

National Oceanic and Atmospheric Administration

50 CFR Part 622

[Docket No. 1206013412-2517-02; RTID 0648-XF136]

Fisheries of the Gulf of America; 2025 Commercial Closure for Gulf Greater Amberjack

AGENCY: National Marine Fisheries Service (NMFS), National Oceanic and Atmospheric Administration (NOAA), Commerce.

ACTION: Temporary rule; closure.

SUMMARY: NMFS implements an accountability measure (AM) for the Gulf of America (Gulf) greater amberjack commercial sector for the 2025 fishing year through this temporary rule. NMFS has determined that Gulf greater amberjack commercial landings have reached the commercial annual catch target (ACT). Therefore, the 2025 commercial fishing season for greater amberjack in the Gulf exclusive economic zone (EEZ) will close on Tuesday, September 2, 2025, and will remain closed through December 31, 2025. These actions are necessary to protect the Gulf greater amberjack resource.

DATES: The commercial closure is effective 12:01 a.m., local time, Tuesday, September 2, 2025, through December 31, 2025.

FOR FURTHER INFORMATION CONTACT: Kelli O'Donnell, NMFS Southeast Regional Office, 727-824-5305, or kelli.odonnell@noaa.gov.

SUPPLEMENTARY INFORMATION: NMFS and the Gulf Council manage the reef fish fishery of the Gulf, which includes greater amberjack, under the Fishery Management Plan for the Reef Fish Resources of the Gulf (FMP). The FMP was prepared by the Gulf Council, approved by the Secretary of Commerce, and is implemented by NMFS through regulations at 50 CFR part 622 under the authority of the Magnuson-Stevens Fishery Conservation and Management Act (Magnuson-Stevens Act). All greater amberjack weights discussed in this temporary rule are in round weight.

For Gulf greater amberjack, the commercial annual catch limit (ACL) and quota (commercial ACT) are 101,000 pounds (lb)(45,813 kilograms (kg)) and 93,930 lb (42,606 kg), respectively (50 CFR 622.41(a)(2)(iii) and 622.39(a)(2)(ii)). As described at 50 CFR 622.7, the fishing year for the Gulf greater amberjack commercial sector is January 1 through December 31.

Under 50 CFR 622.41(a)(1)(i), NMFS is required to close the greater amberjack commercial sector when the commercial ACT is reached, or is projected to be reached, by filing a notification to that effect with the Office of the Federal Register. NMFS has determined that the 2025 commercial ACT of 93,930 lb (42,606 kg) has been reached. Accordingly, NMFS closes the commercial harvest of greater amberjack from the Gulf EEZ effective 12:01 a.m., local time, Tuesday, September 2, 2025 through December 31, 2025.

During the commercial closure, the sale or purchase of greater amberjack taken from the Gulf EEZ is prohibited. The prohibition on sale or purchase does not apply to the sale or purchase of greater amberjack that were harvested, landed ashore, and sold prior to 12:01 a.m., local time, Tuesday, September 2, 2025, and were held in cold storage by a dealer or processor. The commercial sector for greater amberjack will re-open on January 1, 2026, the beginning of the 2026 greater amberjack commercial fishing season.

Classification

NMFS issues this action pursuant to section 305(d) of the Magnuson-Stevens Act. This action is required by 50 CFR 622.41(a)(1), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the closure of the greater amberjack commercial sector at 50 CFR 622.41(a)(1) have already been subject to notice and public comment, and all that remains is to notify the public of the commercial closure. Prior notice and opportunity for public comment are contrary to the public interest because there is a need to immediately implement this action to protect the greater amberjack stock. Prior notice and opportunity for public comment would require time and could result in a harvest well in excess of the commercial ACL. NMFS is required to reduce the 2026 commercial ACT and ACL by the amount of any overage of the 2025 commercial ACL, which would then reduce the 2026 fishing season.

For the aforementioned reasons, the NMFS also finds good cause to waive the 30-day delay in the effectiveness of this action under 5 U.S.C. 553(d)(3).

Authority: 16 U.S.C. 1801 et seq.

Dated: August 27, 2025.
Kelly Denit,
Director, Office of Sustainable Fisheries, National Marine Fisheries Service.

[FR Doc. 2025-16675 Filed 8-28-25; 8:45 am]

BILLING CODE 3510-22-P